INTERNATIONAL TRADE COMMISSION

[Inv. No. 337-TA-481]

In the Matter of Certain Display Controllers With Upscaling Functionality and Products Containing Same; Notice of Commission Determination To Remand Investigation to the Administrative Law Judge; Extension of Target Date for Completion of the Investigation

AGENCY: International Trade Commission.

ACTION: Notice.

SUMMARY: Notice is hereby given that the U.S. International Trade Commission determined to remand the above-referenced investigation to the presiding administrative law judge (ALJ) for further proceedings and making any findings necessary in order to make determinations with regard to the infringement, domestic industry, and validity issues under the Commission review in light of the claim construction determinations made by the Commission. The Commission also determined to extend the target date in this investigation by seven (7) months, i.e., until August 20, 2004.

FOR FURTHER INFORMATION CONTACT: Michael Liberman, Esq., Office of the General Counsel, U.S. International Trade Commission, 500 E Street, SW., Washington, DC 20436, telephone (202) 205-3115. Copies of the public version of the ALJ's ID and all other nonconfidential documents filed in connection with this investigation are or will be available for inspection during official business hours (8:45 a.m. to 5:15 p.m.) in the Office of the Secretary, U.S. International Trade Commission, 500 E Street, SW., Washington, DC 20436, telephone (202) 205-2000. Hearing-impaired persons are advised that information on this matter can be obtained by contacting the Commission's TDD terminal on (202) 205-1810. General information concerning the Commission may also be obtained by accessing its Internet server (http://www.usitc.gov). The public record for this investigation may be viewed on the Commission's electronic docket (EDIS) at http://edis.usitc.gov.

SUPPLEMENTARY INFORMATION: The Commission instituted this investigation on October 18, 2002, based on a complaint filed by Genesis Microchip (Delaware) Inc. (“Genesis”) of Alviso, California, against Media Reality Technologies, Inc. of Sunnyvale, California; Trumpion Microelectronics, Inc. of Taipei, Taiwan; and SmartASIC, Inc. (“SmartASIC”) of San Jose, California. 67 FR 64411 (October 18, 2002). The complaint alleges violations of section 337 of the Tariff Act of 1930 in the importation and sale of certain display controllers with upscaling functionality and products containing same by reason of infringement of certain claims of U.S. Patent No. 5,738,867.

On January 14, 2003, the ALJ issued an ID (Order No. 6) terminating respondent SmartASIC from the investigation on the basis of a settlement agreement. On February 12, 2003, the Commission issued a notice of its decision not to review that ID (Order No. 6).

The evidentiary hearing in this investigation was held from July 14, 2003, through July 25, 2003. On October 20, 2003, the ALJ issued his final ID in which he found that there was no violation of section 337. All the parties to the investigation, including the Commission investigative attorneys filed timely petitions for review of various portions of the final ID, and all of them filed timely responses to the petitions.

On December 5, 2003, the Commission determined to review the final ID in part. The Commission issued a notice dated December 9, 2003, in which the Commission requested briefing, based on the evidentiary record, on the issues under review. All parties to this investigation filed timely written submissions, and timely reply submissions, regarding the issues under review.

Having reviewed the record in this investigation, including the ID and the written submissions of the parties, the Commission determined to make claim construction determinations with regard to the patent claims under review, and to remand the investigation to the ALJ for making infringement, domestic industry, and validity findings in light of the claim construction determinations made by the Commission. In order to allow sufficient time to complete the remand, the Commission extended the target date for completion of the investigation by seven months, i.e., until August 20, 2004.

The authority for the Commission's determination is contained in section 337 of the Tariff Act of 1930, as amended (19 U.S.C. 1337), and in sections 210.45 and 210.51 of the Commission's Rules of Practice and Procedure (19 CFR 210.45, 210.51).

Dated: Issued: January 20, 2004.
By order of the Commission.
Marilyn R. Abbott,
Secretary.

[FR Doc. 04-1536 Filed 1-23-04; 8:45 am]

BILLING CODE 7020-02-P